DEPARTMENT OF VETERANS AFFAIRS

48 CFR Parts 816, 828 and 852

RIN 2900-AP82

Revise and Streamline VA Acquisition Regulation To Adhere to Federal Acquisition Regulation Principles (VAAR Case 2014-V002—Parts 816, 828)

AGENCY: Department of Veterans Affairs.

ACTION: Proposed rule; correction.

SUMMARY: The Department of Veterans Affairs (VA) is correcting a proposed rule regarding Federal Acquisition Regulation Principles. This correction addresses minor technical errors in the proposed rule.

DATES: April 4, 2017. The comments due date remains May 12, 2017.

ADDRESSES: Written comments may be submitted through www.Regulations.gov; by mail or hand-delivery to the Director, Regulation Policy and Management (00REG), Department of Veterans Affairs, 810 Vermont Avenue NW., Room 1068, Washington, DC 20420; or by fax to (202) 273-9026. Comments should indicate that they are submitted in response to “RIN 2900-AP82-Revise and Streamline VA Acquisition Regulation to Adhere to Federal Acquisition Regulation Principles.” Copies of comments received will be available for public inspection in the Office of Regulation Policy and Management, Room 1068, Department of Veterans Affairs, 810 Vermont Avenue NW., Washington, DC 20420, between the hours of 8:00 a.m. and 4:30 p.m. Monday through Friday (except holidays). Please call (202) 461-4902 for an appointment. (This is not a toll-free number.) In addition, during the comment period, comments may be viewed online through the Federal Docket Management System (FDMS) at www.Regulations.gov.

FOR FURTHER INFORMATION CONTACT: Mr. Ricky Clark, Senior Procurement Analyst, Procurement Policy and Warrant Management Services (003A2A), 425 I Street NW., Washington DC 20001, (202) 632-5276. (This is not a toll-free telephone number.)

SUPPLEMENTARY INFORMATION: VA is correcting its proposed rule, “Revise and Streamline VA Acquisition Regulation to Adhere to Federal Acquisition Regulation Principles (VAAR Case 2014-V002—parts 816, 828)” that published March 13, 2017, in the Federal Register at 82 FR 13418.

Corrections

1. On page 13420, third column, List of Subjects revise all references to “38 CFR” to read “48 CFR”.

816.504 [Corrected]

2. On page 13421, second column, amendatory instruction 4, remove “Subpart”, and add, in its place, “Section”.

816.505 [Corrected]

3. On page 13421, second column, amendatory instruction 5, remove “803.505”, and add in its place, “816.505”.

852.216-74 [Corrected]

4. On page 13425, in the third column, remove the heading “Economic Price Adjustment—State Nursing Home Care for Veterans (Alt #1)”, and add in its place, “Economic Price Adjustment—Medicaid Labor Rates (Alt #2)”.

852.228-73 [Corrected]

5. On page 13427, in the third column, immediately following paragraph (d)(2) add, “(End of clause)”.

Janet J. Coleman
Chief, Office of Regulation Policy & Management, Office of the Secretary, Department of Veterans Affairs.

[FR Doc. 2017-06578 Filed 4-3-17; 8:45 am]

BILLING CODE 8320-01-P